DEPARTMENT OF COMMERCE

International Trade Administration

[C-570-159, C-560-841, C-201-861, C-489-851]

Aluminum Extrusions From the People's Republic of China, Indonesia, Mexico, and the Republic of Türkiye: Amended Preliminary Countervailing Duty Determinations

AGENCY: Enforcement and Compliance, International Trade Administration, Department of Commerce.

SUMMARY: The U.S. Department of Commerce (Commerce) is amending the scope of the countervailing duty (CVD) investigations of aluminum extrusions from the People's Republic of China (China), Indonesia, Mexico, and the Republic of Türkiye (Türkiye) to coincide with the scope of the companion less-than-fair-value (LTFV) investigations of aluminum extrusions from China, Colombia, Ecuador, India, Indonesia, Italy, the Republic of Korea (Korea), Malaysia, Mexico, Taiwan, Thailand, Türkiye, the United Arab Emirates (UAE), and the Socialist Republic of Vietnam (Vietnam).

DATES: Applicable March 11, 2024.

FOR FURTHER INFORMATION CONTACT: Stefan Smith, AD/CVD Operations, Office I, Enforcement and Compliance, International Trade Administration, U.S. Department of Commerce, 1401 Constitution Avenue NW, Washington, DC 20230; telephone: (202) 482-4342.

SUPPLEMENTARY INFORMATION:

Background

On October 31, 2023, Commerce published in the Federal Register the notice of initiation of the CVD investigations on aluminum extrusions China, Indonesia, Mexico, and Türkiye ¹ and the LTFV investigations on aluminum extrusions from China, Colombia, the Dominican Republic, Ecuador, India, Indonesia, Italy, Korea, Malaysia, Mexico, Taiwan, Thailand, Türkiye, the UAE, and Vietnam.² On November 27, 2023, the LTFV investigation regarding the Dominican Republic was terminated by the U.S. International Trade Commission, due to negligible imports.³ On March 11, 2024, Commerce published in the Federal Register the preliminary determinations of the CVD investigations on aluminum extrusions from China, Indonesia, Mexico, and Türkiye.⁴

¹ See Aluminum Extrusions from the People's Republic of China, Indonesia, Mexico, and the Republic of Turkey: Initiation of Countervailing Duty Investigations, 88 FR 74433 (October 31, 2023) (CVD Initiation Notice).

² See Aluminum Extrusions from the People's Republic of China, Colombia, the Dominican Republic, Ecuador, India, Indonesia, Italy, the Republic of Korea, Malaysia, Mexico, Taiwan, Thailand, the Republic of Turkey, the United Arab Emirates, and the Socialist Repulic of Vietnam, 88 FR 74421 (October 31, 2023) (AD Initiation Notice).

³ See Aluminum Extrusions from China, Colombia, Dominican Republic, Ecuador, India, Indonesia, Italy, Malaysia, Mexico, South Korea, Taiwan, Thailand, Turkey, United Arab Emirates, and Vietnam, 88 FR 82913 (November 27, 2023).

⁴ See Aluminum Extrusions from the People's Republic of China: Preliminary Affirmative Countervailing Duty Determination, and Alignment of Final Determination With Final Antidumping Duty Determination, 89 FR 17394 (October 31, 2023) (China CVD Preliminary Determination); Aluminum Extrusions from Indonesia: Preliminary Affirmative Countervailing Duty Determination, and Alignment of Final Determination With the Final Antidumping Duty Determination, 89 FR 17405 (October 31, 2023) (Indonesia CVD Preliminary Determination); Aluminum Extrusions from Mexico: Preliminary Affirmative Countervailing Duty Determination, and Alignment of Final Determination With Final Antidumping Duty Determination, 89 FR 17387 (October 31, 2023) (Mexico CVD Preliminary Determination); and Aluminum Extrusions from the Republic of Turkey: Preliminary Affirmative Countervailing Duty Determination, and Alignment of Final Determination With the Final Antidumping Duty Determination, 89 FR 17399 (October 31, 2023) (Türkiye CVD Preliminary Determination).

Consistent with our practice, as established in the Preamble ⁵ to Commerce's regulations, in the CVD Initiation Notice and the AD Initiation Notice, Commerce set aside a period of time for parties to raise issues regarding product coverage, and encouraged all parties to submit comments within 20 calendar days of publication of the CVD Initiation Notice and the AD Initiation Notice. Commerce received scope comments on the official records of the CVD and LTFV investigations from numerous interested parties regarding a variety of products. Due to the complexity and volume of the scope comments received, Commerce addressed a number of comments with the preliminary determinations of the CVD investigations.⁶ Consequently, in the preliminary determinations of each CVD investigation, Commerce instructed the U.S. Customs and Border Protection (CBP) to suspend liquidation of, and to collect cash deposits of, estimated countervailing duties on entries of aluminum extrusions subject to the scope of the CVD investigations.⁷ Prior to, and after, the issuance of Preliminary Scope Memorandum I, Commerce received additional scope comments from interested parties.

⁵ See Antidumping Duties; Countervailing Duties; Final Rule, 62 FR 27296, 27323 (May 19, 1997) (establishing procedures to address product coverage issues in investigations).

⁶ See Memorandum, “Antidumping Duty Investigations and Countervailing Duty Investigations of Aluminum Extrusions from People's Republic of China, Colombia, Ecuador, India, Indonesia, Italy, the Republic of Korea, Malaysia, Mexico, Taiwan, Thailand, the Republic of Turkey, the United Arab Emirates, and the Socialist Republic of Vietnam: Preliminary Scope Decision Memorandum,” dated March 4, 2024 (Preliminary Scope Memorandum I).

⁷ See China CVD Preliminary Determination, 89 FR 17396; Indonesia CVD Preliminary Determination, 89 FR 17407; Mexico CVD Preliminary Determination, 89 FR 17389; and Türkiye CVD Preliminary Determination, 89 FR 17401.

On May 11, 2024, Commerce published in the Federal Register the affirmative preliminary determinations in the LTFV investigations of aluminum extrusions from China, Colombia, Ecuador, India, Indonesia, Italy, Korea, Malaysia, Mexico, Taiwan, Thailand, Türkiye, the UAE, and Vietnam.⁸ Commerce issued a memorandum, Preliminary Scope Memorandum II,⁹ to continue addressing interested parties' scope comments. Multiple interested parties, including the petitioner,¹⁰ submitted comments and proposed scope modifications or clarifications, resulting in the revision to the scope language incorporated in the CVD investigations.¹¹ As such, Commerce is hereby revising the scope of the CVD investigations on aluminum extrusions from China, Indonesia, Mexico, and Türkiye to coincide with the scope of the companion LTFV investigations (see the appendix to this notice). The updated scope of the CVD investigations is provided in the appendix to this notice.

⁸ See Aluminum Extrusions from the People's Republic of China: Preliminary Affirmative Determination of Sales at Less Than Fair Value, Postponement of Final Determination, and Extensions of Provisional Measures, 89 FR 38031 (May 11, 2024); see also Aluminum Extrusions from Colombia: Preliminary Affirmative Determination of Sales at Less Than Fair Value, Postponement of Final Determination, and Extensions of Provisional Measures, 89 FR 38021 (May 11, 2024); Aluminum Extrusions from Ecuador: Preliminary Affirmative Determination of Sales at Less Than Fair Value, Postponement of Final Determination, and Extensions of Provisional Measures, 89 FR 38053 (May 11, 2024); Aluminum Extrusions from India: Preliminary Affirmative Determination of Sales at Less Than Fair Value, Postponement of Final Determination, and Extensions of Provisional Measures, 89 FR 38063 (May 11, 2024); Aluminum Extrusions from Indonesia: Preliminary Affirmative Determination of Sales at Less Than Fair Value, Postponement of Final Determination, and Extensions of Provisional Measures, 89 FR 38026 (May 11, 2024); Aluminum Extrusions from Italy: Preliminary Affirmative Determination of Sales at Less Than Fair Value, Postponement of Final Determination, and Extensions of Provisional Measures, 89 FR 38067 (May 11, 2024); Aluminum Extrusions from the Republic of Korea: Preliminary Affirmative Determination of Sales at Less Than Fair Value, Postponement of Final Determination, and Extensions of Provisional Measures, 89 FR 38085 (May 11, 2024); Aluminum Extrusions from Malaysia: Preliminary Affirmative Determination of Sales at Less Than Fair Value, Postponement of Final Determination, and Extensions of Provisional Measures, 89 FR 38057 (May 11, 2024); Aluminum Extrusions from Mexico: Preliminary Affirmative Determination of Sales at Less Than Fair Value, Postponement of Final Determination, and Extensions of Provisional Measures, 89 FR 38037 (May 11, 2024); Aluminum Extrusions from Taiwan: Preliminary Affirmative Determination of Sales at Less Than Fair Value, Postponement of Final Determination, and Extensions of Provisional Measures, 89 FR 38080 (May 11, 2024); Aluminum Extrusions from Thailand: Preliminary Affirmative Determination of Sales at Less Than Fair Value, Postponement of Final Determination, and Extensions of Provisional Measures, 89 FR 38042 (May 11, 2024); Aluminum Extrusions from Türkiye: Preliminary Affirmative Determination of Sales at Less Than Fair Value, Postponement of Final Determination, and Extensions of Provisional Measures, 89 FR 38046 (May 11, 2024); Aluminum Extrusions from the United Arab Emirates: Preliminary Affirmative Determination of Sales at Less Than Fair Value, Postponement of Final Determination, and Extensions of Provisional Measures, 89 FR 38090 (May 11, 2024); Aluminum Extrusions from the Socialist Republic of Vietnam: Preliminary Affirmative Determination of Sales at Less Than Fair Value, Postponement of Final Determination, and Extensions of Provisional Measures, 89 FR 38075 (May 11, 2024).

⁹ See Memorandum, “Antidumping Duty Investigations and Countervailing Duty Investigations of Aluminum Extrusions from People's Republic of China, Colombia, Ecuador, India, Indonesia, Italy, the Republic of Korea, Malaysia, Mexico, Taiwan, Thailand, the Republic of Türkiye, the United Arab Emirates, and the Socialist Republic of Vietnam: Preliminary Scope Decision Memorandum II,” dated May 1, 2024 (Preliminary Scope Memorandum II).

¹⁰ The petitioner is comprised of the U.S. Aluminum Extruders Coalition and the United Steel, Paper and Forestry, Rubber, Manufacturing Energy, Allied Industrial and Service Workers International Union.

¹¹ See Preliminary Scope Memorandum II at 2-3; see also the appendix to this notice.

Suspension of Liquidation

In each of the preliminary determinations of the LTFV investigations, Commerce noted that it would direct CBP to suspend liquidation of entries of subject merchandise based on the scope language in each notice, where appropriate. Within five days after the publication of this notice, Commerce will notify CBP of the change in the scope of the CVD investigations, as provided in the appendix to this notice, and will direct CBP to continue the suspension of liquidation, where appropriate.

Public Comment

In the Preliminary Scope Memorandum II, we invited interested parties to submit scope comments and information, including new factual information, regarding the scope language adopted in the Preliminary Scope Memorandum I and Preliminary Scope Memorandum II. Initial scope comments are due no later than 5:00 p.m. Eastern Time (ET) on June 5, 2024.¹² As noted in the Preliminary Scope Memorandum II, to issue a final scope determination for certain of these products, Commerce is asking parties to supplement prior submissions with production (e.g., technical, installation, or user specifications, bills of materials), marketing (e.g., brochures, website advertisements), sales (e.g., invoices, contracts, packing list), or import documentation (e.g., Customs 7501 entry forms, bills of lading), as applicable, to support product descriptions.¹³ Rebuttal comments, without new factual information, may be submitted no later than 5:00 p.m. ET on June 12, 2024.¹⁴ Scope comments and rebuttal comments must be submitted on the official records of all CVD and LTFV investigations.

¹² See Memorandum, “Extension of Time for Interested Parties to Submit Scope Comments,” dated May 16, 2024.

¹³ See Preliminary Scope Memorandum II at 27-28.

¹⁴ See Memorandum, “Extension of Time for Interested Parties to Submit Scope Comments,” dated May 16, 2024.

All submissions to Commerce must be filed electronically via Enforcement and Compliance's Antidumping and Countervailing Duty Centralized Electronic Service System (ACCESS), unless an exception applies.¹⁵ An electronically filed document must be received successfully in its entirety by the time and date it is due on all investigation records. Commerce intends to issue final scope analyses with the final determinations of the CVD and LTFV investigations.¹⁶ Note that Commerce has amended certain of its requirements pertaining to the service of documents in 19 CFR 351.303(f).¹⁷

¹⁵ See Antidumping and Countervailing Duty Proceedings: Electronic Filing Procedures; Administrative Protective Order Procedures, 76 FR 39263 (July 6, 2011); see also Enforcement and Compliance; Change of Electronic Filing System Name, 79 FR 69046 (November 20, 2014).

¹⁶ Information regarding the ACCESS system can be found at https://access.trade.gov/help.aspx and a user handbook is available at https://access.trade.gov/help/Handbook_on_Electronic_Filing_Procedures.pdf.

¹⁷ See 19 CFR 351.309(d); see also Administrative Protective Order, Service, and Other Procedures in Antidumping and Countervailing Duty Proceedings, 88 FR 67069, 67077 (September 29, 2023).

After the submission of scope comments, Commerce will set a schedule for the submission of case and rebuttal briefs limited to scope issues.

Notification to Interested Parties

This notice is issued and published in accordance with section 777(i)(1) of the Act.

Dated: May 17, 2024.
Ryan Majerus,
Deputy Assistant Secretary for Policy and Negotiations, performing the non-exclusive functions and duties of the Assistant Secretary for Enforcement and Compliance.

Appendix

Scope of the CVD and LTFV Investigations

The merchandise subject to this investigation are aluminum extrusions, regardless of form, finishing, or fabrication, whether assembled with other parts or unassembled, whether coated, painted, anodized, or thermally improved. Aluminum extrusions are shapes and forms, produced by an extrusion process, made from aluminum alloys having metallic elements corresponding to the alloy series designations published by the Aluminum Association commencing with the numbers 1, 3, and 6 (or proprietary equivalents or other certifying body equivalents). Specifically, subject aluminum extrusions made from an aluminum alloy with an Aluminum Association series designation commencing with the number 1 contain not less than 99 percent aluminum by weight. Subject aluminum extrusions made from an aluminum alloy with an Aluminum Association series designation commencing with the number 3 contain manganese as the major alloying element, with manganese accounting for not more than 3.0 percent of total materials by weight. Subject aluminum extrusions made from an aluminum alloy with an Aluminum Association series designation commencing with the number 6 contain magnesium and silicon as the major alloying elements, with magnesium accounting for at least 0.1 percent but not more than 2.0 percent of total materials by weight, and silicon accounting for at least 0.1 percent but not more than 3.0 percent of total materials by weight. The scope also includes merchandise made from an aluminum alloy with an Aluminum Association series designation commencing with the number 5 (or proprietary equivalents or other certifying body equivalents) that have a magnesium content accounting for up to but not more than 2.0 percent of total materials by weight.

The country of origin of the aluminum extrusion is determined by where the metal is extruded (i.e., pressed through a die).

Aluminum extrusions are produced and imported in a wide variety of shapes and forms, including, but not limited to, hollow profiles, other solid profiles, pipes, tubes, bars, and rods. Aluminum extrusions that are drawn subsequent to extrusion (drawn aluminum) are also included in the scope.

Subject aluminum extrusions are produced and imported with a variety of coatings and surface treatments, and types of fabrication. The types of coatings and treatments applied to aluminum extrusions include, but are not limited to, extrusions that are mill finished (i.e., without any coating or further finishing), brushed, buffed, polished, anodized (including bright dip), liquid painted, electroplated, chromate converted, powder coated, sublimated, wrapped, and/or bead blasted. Subject aluminum extrusions may also be fabricated, i.e., prepared for assembly, or thermally improved. Such operations would include, but are not limited to, extrusions that are cut-to-length, machined, drilled, punched, notched, bent, stretched, stretch-formed, hydroformed, knurled, swedged, mitered, chamfered, threaded, spun, etched, and engraved. Performing such operations in third countries does not otherwise remove the merchandise from the scope of the investigations.

The types of products that meet the definition of subject merchandise include but are not limited to, the aluminum extrusion portions of vehicle roof rails and sun/moon roof framing, solar panel racking rails and framing, tradeshow display fixtures and framing, parts for tents or clear span structures, fence posts, drapery rails or rods, electrical conduits, door thresholds, flooring trim, electric vehicle battery trays, heat sinks, signage or advertising poles, telescoping poles, or cleaning system components.

Aluminum extrusions may be heat sinks, which are fabricated aluminum extrusions that dissipate heat away from a heat source and may serve other functions, such as structural functions. Heat sinks come in a variety of sizes and shapes, including but not limited to a flat electronic heat sink, which is a solid aluminum extrusion with at least one flat side used to mount electronic or mechanical devices; a heat sink that is a housing for electronic controls or motors; lighting heat sinks, which dissipate heat away from LED devices; and process and exchange heat sinks, which are tube extrusions with fins or plates used to hold radiator tubing. Heat sinks are included in the scope, regardless of whether the design and production of the heat sinks are organized around meeting specified thermal performance requirements and regardless of whether they have been tested to comply with such requirements. For purposes of the investigations on aluminum extrusions from the People's Republic of China, only heat sinks designed and produced around meeting specified thermal performance requirements and tested to comply with such requirements are included in the scope. Excluded from the scope of the investigations are large, multi-finned extruded aluminum heat sinks designed to dissipate heat, meeting the following criteria: (1) an aspect ratio (defined as the ratio of the area of a void in an extrusion to the size of the smallest gap opening at the entrance of that void and calculated by dividing the void area by the square of the gap opening) greater than 15 to 1; or (2) the circumscribing circle diameter (defined as the diameter of the smallest circle that will entirely enclose the extrusion's cross-sectional profile) rounded up to the next half inch, exceeds 10 inches, and the weight-per-foot (defined as the theoretical weight of the profile as extruded prior to any machining that may remove material and calculated by multiplying the area of the profile in square inches by 1.2) exceeds 3.50 pounds per foot.

Merchandise that is comprised solely of aluminum extrusions or aluminum extrusions and fasteners, whether assembled at the time of importation or unassembled, is covered by the scope in its entirety.

The scope also includes aluminum extrusions contained in merchandise that is a part or subassembly of a larger whole, whether or not the merchandise also contains a component other than aluminum extrusions that is beyond a fastener. Such merchandise may be either assembled or unassembled at the time of importation. A “part or subassembly” is defined as a unit designed to be attached to, or incorporated with, one or more other units or components into a larger completed product. Only the aluminum extrusion portion of the merchandise described in this paragraph, whether assembled or unassembled, is subject merchandise included in the scope and subject to duties. Examples of merchandise that is a part or subassembly of a larger whole include, but are not limited to, window parts or subassemblies; door unit parts or subassemblies; shower and bath parts or subassemblies; solar panel mounting systems; fenestration system parts or subassemblies, such as curtain wall and window wall units and parts or subassemblies of storefronts; furniture parts or subassemblies; appliance parts or subassemblies, such as fin evaporator coils and systems for refrigerators; railing or deck system parts or subassemblies; fence system parts or subassemblies; motor vehicle parts or subassemblies, such as bumpers for motor vehicles; trailer parts or subassemblies, such as side walls, flooring, and roofings; electric vehicle charging station parts or subassemblies; or signage or advertising system parts or subassemblies. Parts or subassemblies described by this paragraph that are subject to duties in their entirety pursuant to existing antidumping and countervailing duty orders (defined as those antidumping and countervailing duty orders that are in effect as of the date of publication of the order resulting from this investigation) are excluded from the scope of the investigation. Any part or subassembly that otherwise meets the requirements of this scope and that is not covered by other antidumping and/or countervailing duty orders remains subject to the scope of the investigations.

The scope excludes aluminum extrusions contained in fully and permanently assembled merchandise, if the assembled merchandise is not a part or subassembly of a larger whole. To be excluded under this paragraph, the assembled merchandise must also contain a component other than aluminum extrusions, beyond fasteners. In addition, to be excluded under this paragraph, the assembled merchandise must be ready for use as imported, without undergoing after importation any processing, fabrication, finishing, or assembly or the addition of parts or material (with the exception of consumable parts or material or interchangeable media or tooling).

The scope also excludes aluminum extrusions contained in unassembled merchandise if the unassembled merchandise is not a part or subassembly of a larger whole. To be excluded under this paragraph, the unassembled merchandise must also contain a component other than aluminum extrusions, beyond fasteners. In addition, to be excluded under this paragraph, the unassembled merchandise must be a packaged combination of parts that is ready to be assembled as imported, without undergoing after importation any processing, fabrication, or finishing or the addition of parts or material (with the exception of consumable parts or material or interchangeable media or tooling). To be excluded under this paragraph, the unassembled merchandise must be sold and enter as a discrete kit on one Customs entry form.

Examples of such excluded assembled and unassembled merchandise include windows with glass, door units with door panel and glass, motor vehicles, trailers, furniture, appliances, and solar panels and solar modules.

The scope also excludes merchandise containing multiple subassemblies of a larger whole with non-extruded aluminum components beyond fasteners. A subassembly that meets the definition of subject merchandise, including any product expressly identified as subject merchandise in this scope, can only be excluded if it is fully and permanently assembled with at least one other different subassembly, and where (1) at least one of the subassemblies, if entered individually, would not itself be subject to the scope; (2) the aluminum extrusions within the merchandise collectively account for 50 percent or less of the actual weight of the combined multiple subassemblies (without including any non-extruded aluminum fasteners in the calculations); and (3) the aluminum extrusions within the merchandise collectively account for 50 percent or less of the number of pieces of the combined multiple subassemblies (without including any non-extruded aluminum fasteners in the calculations).

The scope also includes aluminum extrusions that have been further processed in a third country, including, but not limited to, the finishing and fabrication processes described above, assembly, whether with other aluminum extrusion components or with non-aluminum extrusion components, or any other processing that would not otherwise remove the merchandise from the scope if performed in the country of manufacture of the in-scope product. Third country processing; finishing; and/or fabrication, including those processes described in the scope, does not alter the country of origin of the subject aluminum extrusions.

The following aluminum extrusion products are excluded: aluminum extrusions made from an aluminum alloy with an Aluminum Association series designations commencing with the number 2 (or proprietary equivalents or other certifying body equivalents) and containing in excess of 1.5 percent copper by weight; aluminum extrusions made from an aluminum alloy with an Aluminum Association series designation commencing with the number 5 (or proprietary equivalents or other certifying body equivalents) and containing in excess of 2.0 percent magnesium by weight; and aluminum extrusions made from an aluminum alloy with an Aluminum Association series designation commencing with the number 7 (or proprietary equivalents or other certifying body equivalents) and containing in excess of 2.0 percent zinc by weight.

The scope also excludes aluminum alloy sheet or plates produced by means other than the extrusion process, such as aluminum products produced by a method of continuous casting or rolling. Cast aluminum products are also excluded. The scope also excludes unwrought aluminum in any form.

The scope also excludes collapsible tubular containers composed of metallic elements corresponding to alloy code 1080A as designated by the Aluminum Association (not including proprietary equivalents or other certifying body equivalents) where the tubular container (excluding the nozzle) meets each of the following dimensional characteristics: (1) length of 37 millimeters (mm) or 62 mm; (2) outer diameter of 11.0 mm or 12.7 mm; and (3) wall thickness not exceeding 0.13 mm.

Also excluded from the scope are extruded drawn solid profiles made from an aluminum alloy with the Aluminum Association series designation commencing with the number 1, 3, or 6 (or proprietary equivalents or other certifying body equivalents), including variants on individual alloying elements not to circumvent the other Aluminum Association series designations, which meet each of the following characteristics: (1) solid cross sectional area greater than 62.4 mm² and less than 906 mm², (2) minimum electrical conductivity of 58% of the international annealed copper standard (IACS) or maximum resistivity of 2.97 μΩ/cm, (3) a uniformly applied nonelectrically conductive temperature-resistant coating co-extruded over characteristic (1) of either polyamide, cross-linked polyethylene, or silicone rubber material which meets the following standards: (a) Vicat A temperature threshold of >140 degrees Celsius, (b) flammability requirements of UL 94V-0, and (c) a minimum coating thickness of 0.10 mm and maximum coating thickness of 2.0 mm, with a maximum thickness tolerance of +/− 0.20 mm, (4) characteristic 3 may or may not be encapsulated with a “Precision Drawn Tubing,” wall thicknesses less than 1.2 mm, which is mechanically fixed in place, and (5) packaged in straight lengths, bent or formed and/or attached to hardware.

Also excluded from the scope are extruded tubing and drawn over a ID plug and through a OD die made from an aluminum alloy with the Aluminum Association series designation commencing with the number 3, 5, or 6 (or proprietary equivalents or other certifying body equivalents), including variants on individual alloying elements not to circumvent the other Aluminum Association series designations, which meet each of the following characteristics: (1) an outside mean diameter no greater than 30 mm with a tolerance less than or equal to +/− 0.10 mm, (2) uniform wall thickness no greater than 2.7 mm with wall tolerances less than or equal to +/− 0.1 mm, (3) may be coated with materials, including zinc, such that the coating material weight is no less than 3 g/m2 and no greater than 30 g/m2, and (4) packaged in continuous coils, straight lengths, bent or formed.

The scope also excludes fully and permanently assembled glass refrigerator shelves with decorative aluminum trim meeting the following characteristics: (1) aluminum trim meeting Aluminum Association series 6063-T5 designation that is anodized; (2) aluminum trim length of not more than 800 mm; and (3) aluminum trim width of not more than 40 mm. Such fully and permanently assembled glass refrigerator shelves include other components in addition to the aluminum trim, including, but not limited to, glass, steel, and plastic. Only fully and permanently assembled glass refrigerator shelves that require no further processing, fabrication, finishing, assembly, or the addition of any parts or material are excluded. Imports of glass refrigerator shelves are classified under HTSUS 8418.99.8050, which is being included for convenience.

Also excluded from the scope of this investigation is certain rectangular wire, imported in bulk rolls or precut strips and produced from continuously cast rolled aluminum wire rod, which is subsequently extruded to dimension to form rectangular wire with or without rounded edges. The product is made from aluminum alloy grade 1070 or 1370 (not including proprietary equivalents or other certifying body equivalents), with no recycled metal content allowed. The dimensions of the wire are 2.95 mm to 6.05 mm in width, and 0.65 mm to 1.25 mm in thickness. Imports of rectangular wire are provided for under Harmonized Tariff Schedule of the United States (HTSUS) subheadings 7605.19.0000, 7604.10.5000, or 7616.99.5190.

Also excluded from the scope of the antidumping and countervailing duty investigations on aluminum extrusions from the People's Republic of China are all products covered by the scope of the antidumping and countervailing duty orders on Aluminum Extrusions from the People's Republic of China. See Aluminum Extrusions from the People's Republic of China: Antidumping Duty Order, 76 FR 30650 (May 26, 2011); and Aluminum Extrusions from the People's Republic of China: Countervailing Duty Order, 76 FR 30653 (May 26, 2011) (collectively, Aluminum Extrusions from the People's Republic of China). Solely for the investigations on aluminum extrusions from the People's Republic of China, the following is an exhaustive list of products where the aluminum extrusion portions thereof meet the definition of subject merchandise. The language contained in the rest of the scope applies to this exhaustive list of products. Merchandise that is not included in the following list that meets the definition of subject merchandise in the 2011 antidumping and countervailing duty orders on Aluminum Extrusions from the People's Republic of China remains subject to the earlier orders. No other section of this scope language that provides examples of subject merchandise is exhaustive.

The aluminum extrusion portions of the following products are included in the scope of the investigations on aluminum extrusions from the People's Republic of China, whether assembled or unassembled: heat sinks as described above; cleaning system components like mops and poles; banner stands/back walls; fabric wall systems; drapery rails; side mount valve controls; water heater anodes; solar panel mounting systems; automotive heating and cooling system components; assembled motor cases with stators; louver assemblies; event décor; window wall units and parts; trade booths; micro channel heat exchangers; telescoping poles, pole handles, and pole attachments; flagpoles; wind sign frames; foreline hose assembly; electronics enclosures; parts and subassemblies for storefronts, including portal sets; light poles; air duct registers; outdoor sporting goods parts and subassemblies; glass refrigerator shelves; aluminum ramps; handicap ramp system parts and subassemblies; frames and parts for tents and clear span structures; parts and subassemblies for screen enclosures, patios, and sunrooms; parts and subassemblies for walkways and walkway covers; aluminum extrusions for Light Emitting Diode (LED) lights; parts and subassemblies for screen, storm, and patio doors; pontoon boat parts and subassemblies, including rub rails, flooring, decking, transom structures, canopy systems, seating; boat hulls, framing, ladders, and transom structures; parts and subassemblies for docks, piers, boat lifts and mounting; recreational and boat trailer parts and subassemblies, including subframes, crossmembers, and gates; solar tracker assemblies with gears; garage door framing systems; door threshold and sill assemblies; highway and bridge signs; bridge, street, and highway rails; scaffolding, including planks and struts; railing and support systems; parts and subassemblies for exercise equipment; weatherstripping; door bottom and sweeps; door seals; floor transitions and trims; parts and subassemblies for modular walls and office furniture; truck trailer parts and subassemblies; boat cover poles, outrigger poles, and rod holders; bleachers and benches; parts and subassemblies for elevators, lifts, and dumbwaiters; parts and subassemblies for mirror and framing systems; window treatments; parts and subassemblies for air foils and fans; bus and Recreational Vehicle (RV) window frames; sliding door rails; dock ladders; parts and subassemblies for RV frames and trailers; awning, canopy, and sunshade structures and their parts and subassemblies; marine motor mounts; linear lighting housings; and cluster mailbox systems.

Imports of the subject merchandise are primarily provided for under the following categories of the HTSUS: 7604.10.1000; 7604.10.3000; 7604.10.5000; 7604.21.0010; 7604.21.0090; 7604.29.1010; 7604.29.1090; 7604.29.3060; 7604.29.3090; 7604.29.5050; 7604.29.5090; 7608.10.0030; 7608.10.0090; 7608.20.0030; 7608.20.0090; 7609.00.0000; 7610.10.0010; 7610.10.0020; 7610.10.0030; 7610.90.0040; and 7610.90.0080.

Imports of the subject merchandise, including subject merchandise entered as parts of other products, may also be classifiable under the following additional HTSUS categories, as well as other HTSUS categories: 6603.90.8100; 7606.12.3091; 7606.12.3096; 7615.10.2015; 7615.10.2025; 7615.10.3015; 7615.10.3025; 7615.10.5020; 7615.10.5040; 7615.10.7125; 7615.10.7130; 7615.10.7155; 7615.10.7180; 7615.10.9100; 7615.20.0000; 7616.10.9090; 7616.99.1000; 7616.99.5130; 7616.99.5140; 7616.99.5190; 8302.10.3000; 8302.10.6030; 8302.10.6060; 8302.10.6090; 8302.20.0000; 8302.30.3010; 8302.30.3060; 8302.41.3000; 8302.41.6015; 8302.41.6045; 8302.41.6050; 8302.41.6080; 8302.42.3010; 8302.42.3015; 8302.42.3065; 8302.49.6035; 8302.49.6045; 8302.49.6055; 8302.49.6085; 8302.50.0000; 8302.60.3000; 8302.60.9000; 8305.10.0050; 8306.30.0000; 8414.59.6590; 8415.90.8045; 8418.99.8005; 8418.99.8050; 8418.99.8060; 8419.50.5000; 8419.90.1000; 8422.90.0640; 8424.90.9080; 8473.30.2000; 8473.30.5100; 8479.89.9599; 8479.90.8500; 8479.90.9596; 8481.90.9060; 8481.90.9085; 8486.90.0000; 8487.90.0080; 8503.00.9520; 8508.70.0000; 8513.90.2000; 8515.90.2000; 8516.90.5000; 8516.90.8050; 8517.71.0000; 8517.79.0000; 8529.90.7300; 8529.90.9760; 8536.90.8585; 8538.10.0000; 8541.90.0000; 8543.90.8885; 8547.90.0020; 8547.90.0030; 8547.90.0040; 8708.10.3050; 8708.29.5160; 8708.80.6590; 8708.99.6890; 8807.30.0060; 9031.90.9195; 9401.99.9081; 9403.99.1040; 9403.99.9010; 9403.99.9015; 9403.99.9020; 9403.99.9040; 9403.99.9045; 9405.99.4020; 9506.11.4080; 9506.51.4000; 9506.51.6000; 9506.59.4040; 9506.70.2090; 9506.91.0010; 9506.91.0020; 9506.91.0030; 9506.99.0510; 9506.99.0520; 9506.99.0530; 9506.99.1500; 9506.99.2000; 9506.99.2580; 9506.99.2800; 9506.99.5500; 9506.99.6080; 9507.30.2000; 9507.30.4000; 9507.30.6000; 9507.30.8000; 9507.90.6000; and 9603.90.8050.

While HTSUS subheadings are provided for convenience and customs purposes, the written description of the scope is dispositive.

[FR Doc. 2024-11346 Filed 5-22-24; 8:45 am]

BILLING CODE 3510-DS-P